FEDERAL DEPOSIT INSURANCE CORPORATION

Notice of Termination of Receiverships

The Federal Deposit Insurance Corporation (FDIC or Receiver), as Receiver for each of the following insured depository institutions, was charged with the duty of winding up the affairs of the former institutions and liquidating all related assets. The Receiver has fulfilled its obligations and made all dividend distributions required by law.

Notice of Termination of Receiverships
Fund | Receivership name | City | State | Termination date
10106 | CapitalSouth Bank | Birmingham | AL | 2/1/2018
10111 | Mainstreet Bank | Forest Lake | MN | 2/1/2018
10178 | American Marine Bank | Bainbridge Island | WA | 2/1/2018
10179 | First National Bank of Georgia | Carrollton | GA | 2/1/2018
10209 | Beach First National Bank | Myrtle Beach | SC | 2/1/2018
10247 | First National Bank | Rosedale | MS | 2/1/2018
10249 | Washington First International Bank | Seattle | WA | 2/1/2018
10258 | Mainstreet Savings Bank, FSB | Hastings | MI | 2/1/2018
10268 | Sterling Bank | Lantana | FL | 2/1/2018
10286 | Horizon Bank | Bradenton | FL | 2/1/2018
10301 | First Suburban National Bank | Maywood | IL | 2/1/2018
10341 | Peoples State Bank | Hamtramck | MI | 2/1/2018
10345 | Habersham Bank | Clarksville | GA | 2/1/2018
10359 | Community Central Bank | Mount Clemens | MI | 2/1/2018
10409 | All American Bank | Des Plaines | IL | 2/1/2018
10445 | Putnam State Bank | Palatka | FL | 2/1/2018
10464 | Citizens First National Bank | Princeton | IL | 2/1/2018
10491 | Texas Community Bank, National Association | The Woodlands | TX | 2/1/2018
10515 | Premier Bank | Denver | CO | 2/1/2018

The Receiver has further irrevocably authorized and appointed FDIC-Corporate as its attorney-in-fact to execute and file any and all documents that may be required to be executed by the Receiver which FDIC-Corporate, in its sole discretion, deems necessary, including but not limited to releases, discharges, satisfactions, endorsements, assignments, and deeds. Effective on the termination dates listed above, the Receiverships have been terminated, the Receiver has been discharged, and the Receiverships have ceased to exist as legal entities.

Dated: February 1, 2018.
Federal Deposit Insurance Corporation.
Robert E. Feldman,
Executive Secretary.

[FR Doc. 2018-02286 Filed 2-5-18; 8:45 am]

BILLING CODE 6714-01-P